DEPARTMENT OF ENERGY

Federal Energy Regulatory Commission

[Docket No. RP03-283-000]

Columbia Gulf Transmission Company; Notice of Proposed Changes in FERC Gas Tariff

March 5, 2003.

Take notice that on February 28, 2003, Columbia Gulf Transmission Company (Columbia Gulf) tendered for filing as part of its FERC Gas Tariff, Second Revised Volume No. 1 (Tariff), the following revised tariff sheets, with a proposed effective date of April 1, 2003:

Thirty-second Revised Sheet No. 18

Twenty-second Revised Sheet No. 18A

Thirty-third Revised Sheet No. 19

Columbia Gulf states that this filing represents Columbia Gulf's annual filing pursuant to the provisions of section 33, “Transportation Retainage Adjustment (TRA),” of the General Terms and Conditions (GTC) of its Tariff. Columbia Gulf states that the tariff sheets listed above set forth the transportation retainage factors as a result of this filing.

Columbia Gulf states that copies of its filing are available for inspection at its offices at 12801 Fair Lakes Parkway, Fairfax, Virginia; 2603 Augusta, Suite 124, Houston, Texas; and 10 G Street NE., Suite 580, Washington, DC; and have been mailed to all firm customers, interruptible customers, and affected state commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5824 Filed 3-11-03; 8:45 am]

BILLING CODE 6717-01-P